ENVIRONMENTAL PROTECTION AGENCY

40 CFR Part 50

[FRL-7145-5]

National Ambient Air Quality Standards for Ozone; Notice of Public Meetings

AGENCY: Environmental Protection Agency (EPA).

ACTION: Notice of public meetings.

SUMMARY: The purpose of this document is to announce that EPA has scheduled two public meetings to solicit comments on various options to implement the 8-hour ozone national ambient air quality standard (NAAQS). The options contain EPA's preliminary views and are intended to initiate a dialogue with the public on approaches for implementing the 8-hour ozone NAAQS. The EPA is interested in hearing the views from interested stakeholders on the options that we've developed and their ideas on how to best implement the 8-hour ozone NAAQS consistent with the Supreme Court's decision in Whitman v. American Trucking Association. An overarching issue that EPA would like public input on is how EPA should address the Supreme Court's holding that subpart 2 of part D of title I of the Clean Air Act (CAA) applies for purposes of classifying areas under a revised ozone NAAQS.

DATES: The two, 1-day meetings will be held from 9 a.m. to 5 p.m. (EST) on Tuesday, March 5, 2002, in Alexandria, Virginia, and on Thursday, March 7, 2002, in Atlanta, Georgia.

ADDRESSES: The March 5, 2002 meeting will be held at: Radisson Old Town, 901 N. Fairfax Street, Alexandria, Virginia. The March 7, 2002 meeting will be held at: Renaissance Concourse Hotel, 1 Hartsfield Centre Parkway, Atlanta, Georgia.

FOR FURTHER INFORMATION CONTACT: For general information on the meetings, contact: Denise M. Gerth, U.S. EPA, Office of Air Quality Planning and Standards, C539-02, Research Triangle Park, NC 27711, phone (919) 541-5550, or e-mail: gerth.denise@epa.gov. To register for the meeting, please contact: Barbara Bauer, E.H. Pechan and Associates, Durham, NC, phone (919) 493-3144, extension 188, or e-mail: barbara.bauer@pechan.com.

SUPPLEMENTARY INFORMATION: On July 18, 1997, EPA revised the ozone NAAQS (62 FR 38856). At that time, EPA indicated it would implement the 8-hour ozone NAAQS under the less detailed requirements of subpart 1 of part D of title I of the CAA rather than more detailed requirements of subpart 2 requirements. Various industry groups and States challenged EPA's final rule promulgating the 8-hour ozone NAAQS in the U.S. Court of Appeals for the District of Columbia Circuit.¹ In May 1999, the Appeals Court remanded the ozone standard to EPA on the basis that EPA's interpretation of its authority under the standard-setting provisions of the CAA resulted in an unconstitutional delegation of authority. American Trucking Assns., Inc. v. EPA, 175 F.3d 1027, aff'd, 195 F.3d 4 (D.C. Cir. 1999). In addition, the Court held that EPA improperly interpreted the statute to provide for implementation of the 8-hour standard under subpart 1, but also determined that EPA could not implement a revised ozone standard under subpart 2. The EPA sought review of these two issues by the U.S. Supreme Court. In February 2001, the Supreme Court upheld the constitutionality of the air quality standard setting. Whitman v. American Trucking Assoc., 121 S.Ct. 903. In addition, the Supreme Court held that EPA has authority to implement a revised ozone standard but that EPA could not ignore subpart 2 when implementing the 8-hour standard. Specifically, the Court noted EPA could not ignore the provisions of subpart 2 that “eliminate[s] regulatory discretion” allowed by subpart 1. After determining that EPA could not ignore the provisions of subpart 2, the Court went on to identify several portions of the classification scheme that are “ill-fitted” to the revised standard, but left it to EPA to develop a reasonable approach for implementation. Any implementation approach that EPA develops must address the requirements of the CAA, as interpreted by the Supreme Court.

¹ On July 18, 1997, EPA also promulgated a revised particulate matter (PM) standard (62 FR 38652). Litigation on the PM standard paralleled the litigation on the ozone standard and the court issued one opinion addressing both challenges.

The EPA has initiated a process to obtain stakeholder feedback on options the Agency is developing for implementation of the 8-hour ozone NAAQS. The EPA plans to issue a final rule on the implementation strategy prior to designating areas for the 8-hour ozone NAAQS. The implementation rule will provide specific requirements for State and local air pollution control agencies and tribes to prepare implementation plans to attain and maintain the 8-hour NAAQS. States with areas that are not attaining the 8-hour ozone NAAQS will have to develop—as part of its State implementation plan (SIP)—emission limits and other requirements to attain the NAAQS within the time frames set forth in the CAA.² Tribal lands that are not attaining the 8-hour ozone standard may be affected, and could voluntarily submit a tribal implementation plan (TIP), but would not be required to submit a TIP. However, in cases where a TIP is not submitted, EPA would have the responsibility for planning in those areas.

² The CAA requires EPA to set ambient air quality standards and requires States to submit SIPs to implement those standards.

The EPA is holding these meetings in order to obtain stakeholder feedback regarding the options that EPA has developed as well as to listen to any new or different ideas that stakeholders may be interested in presenting. In order to provide for more focused discussions, EPA is structuring these meetings to allow for an introductory session followed by four breakout sessions that attendees will rotate through in order to be involved in discussions of all the issues. The breakout sessions will cover the following topics: (1) Classifications and attainment dates; (2) nonattainment designations; (3) growth and its impact upon SIPs; and (4) other general SIP issues. A wrap up session will be held before adjourning. New Source Review (NSR) programs that accompany nonattainment designations will not be the subject of these meetings since the EPA is currently considering whether and how to change the NSR program regulations in other contexts. The EPA has placed a variety of materials regarding implementation options, and which will be the focus of the meetings, on the Website: www.epa.gov/ttn/rto/ozonetech/o3imp8hr/o3imp8hr.htm. Additional material will be placed on the website as they are developed. Anyone interested in attending the meetings should check the website for new material on a regular basis prior to the meetings.

The materials that are available on the website are also available at: Air and Radiation Docket and Information Center, Docket Number A-2001-31, U.S. EPA, 401 M Street, SW., Room M-1500 (Mail Code 6102), Washington, DC 20460. The docket is available for public inspection and copying between 8 a.m. and 5:30 p.m., Monday through Friday, excluding legal holidays. A reasonable fee may be charged for copying.

Dated: February 8, 2002.
Jeffrey S. Clark,
Acting Director, Office of Air Quality Planning and Standards.

[FR Doc. 02-3748 Filed 2-14-02; 8:45 am]

BILLING CODE 6560-50-P